DEPARTMENT OF ENERGY

Federal Energy Regulatory Commission

[Docket No. RP96-320-032]

Koch Gateway Pipeline Company; Notice of Negotiated Rate Filing

October 4, 2000.

Take notice that on September 28, 2000, Koch Gateway Pipeline Company (Koch) files with the Federal Energy Regulatory Commission a contract for disclosure of a recently negotiated rate transaction. As shown on the contract, Koch requests an effective date of October 1, 2000.

Special Negotiated Rate Between Koch and Koch Energy Trading Company

Koch states that it has served copies of this filing upon all parties on the official service list created by the Secretary in this proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-26054 Filed 10-10-00; 8:45 am]

BILLING CODE 6717-01-M